DEPARTMENT OF THE INTERIOR

National Park Service

[NPS-WASO-NAGPRA-10360; 2200-1100-665]

Notice of Inventory Completion: San Diego State University, San Diego, CA

AGENCY: National Park Service, Interior.

ACTION: Notice.

SUMMARY: San Diego State University Archeology Collections Management Program has completed an inventory of human remains and associated funerary objects, in consultation with the appropriate Indian tribes, and has determined that there is a cultural affiliation between the human remains and associated funerary objects and present-day Indian tribes. Representatives of any Indian tribe that believes itself to be culturally affiliated with the human remains and associated funerary objects may contact San Diego State University Archeology Collections Management Program. Repatriation of the human remains and associated funerary objects to the Indian tribes stated below may occur if no additional claimants come forward.

DATES: Representatives of any Indian tribe that believes it has a cultural affiliation with the human remains and associated funerary objects should contact San Diego State University Archeology Collections Management Program at the address below by July 12, 2012.

ADDRESSES: Jaime Lennox, Interim Director, San Diego State University Archeology Collections Management Program, 5500 Campanile Dr., San Diego, CA 92182-6040, telephone (619) 594-4575.

SUPPLEMENTARY INFORMATION: Notice is here given in accordance with the Native American Graves Protection and Repatriation Act (NAGPRA), 25 U.S.C. 3003, of the completion of an inventory of human remains and associated funerary objects in the possession of San Diego State University Archeology Collections Management Program, San Diego, CA. The human remains and associated funerary objects were removed from the Buchanan Reservoir site in Madera County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the San Diego State University Archeology Collections Management Program professional staff in consultation with representatives of the Picayune Rancheria of Chukchansi Indians of California; Santa Rosa Indian Community of the Santa Rosa Rancheria, California; Table Mountain Rancheria of California; and the Tule River Indian Tribe of the Tule River Reservation, California (hereafter referred to as “The Tribes”).

History and Description of the Remains

In 1972, human remains representing, at minimum, two individuals were removed from the Buchanan Reservoir site, SDSU-0368, MAD-117, (1972-15), located in Madera County, CA. This site was excavated as part of Thomas King's Ph.D. dissertation for the University of California, Riverside. The collection at San Diego State University appears to have been collected from back dirt by an unknown student and brought back to San Diego State University. The remains are two distal right humorous fragments and, based on diagnostics, represent two individuals. No known individuals were identified. The 92 associated funerary objects are 8 pieces of house daub, 61 chipped stone artifacts, 12 ground stone artifacts, 4 tools, 6 shells, and 1 lot of faunal remains.

These objects were determined to be associated funerary objects based upon reasonable evidence derived from the provenience information recorded for this collection, as well as consultation with representatives of the Santa Rosa Indian Community of the Santa Rosa Rancheria, California. Geographic affiliation is consistent with the historically documented territory of the Picayune Rancheria of Chukchansi Indians of California and the Santa Rosa Indian Community of the Santa Rosa Rancheria, California, Table Mountain Rancheria of California, and the Tule River Indian Tribe of the Tule River Reservation, California.

Determinations Made by the San Diego State University Archeology Collections Management Program

Officials of the San Diego State University Archeology Collections Management Program have determined that:

• Pursuant to 25 U.S.C. 3001(9), the human remains described in this notice represent the physical remains of two individuals of Native American ancestry.

• Pursuant to 25 U.S.C. 3001(3)(A), the 92 objects described above are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Representatives of any Indian tribe that believes itself to be culturally affiliated with the human remains and associated funerary objects should contact Jaime Lennox, Interim Director, San Diego State University Archeology Collections Management Program, 5500 Campanile Dr., San Diego, CA 92182-6040, telephone (619) 594-4575, before July 12, 2012. Repatriation of the human remains and associated funerary objects to The Tribes may proceed after that date if no additional claimants come forward.

The San Diego State University Archeology Collections Management Program is responsible for notifying The Tribes that this notice has been published.

Dated: June 7, 2012.
David Tarler,
Acting Manager, National NAGPRA Program.

[FR Doc. 2012-14293 Filed 6-11-12; 8:45 am]

BILLING CODE 4312-50-P